DEPARTMENT OF HEALTH AND HUMAN SERVICES

Announcement of Availability of Funds for Family Planning Male Reproductive Health Research Grants

AGENCY: Department of Health and Human Services, Office of the Secretary, Office of Public Health and Science, Office of Population Affairs.

ACTION: Notice; correction.

SUMMARY: The Office of Population Affairs published a notice in the Federal Register of April 14, 2003 announcing the availability of funds for family planning male reproductive health research grants. A correction Notice was published on May 23, 2003. There was an error in this Notice. This Notice corrects that error.

FOR FURTHER INFORMATION CONTACT: Susan B. Moskosky, 301-594-4008.

Correction

In the Federal Register of May 23, 2003, in FR Doc. 03-12983, on page 28228, in the first column, second paragraph under the heading “Correction” correct the second sentence which reads “Awards will range from $100,000 to $250,000 per year, inclusive of direct costs” to read:

“Awards will range from $100,000 to $250,000 per year, inclusive of indirect costs.”

Dated: May 30, 2003.
Alma L. Golden,
Deputy Assistant Secretary for Population Affairs.

[FR Doc. 03-14245 Filed 6-5-03; 8:45 am]

BILLING CODE 4150-34-M